INTERNATIONAL TRADE COMMISSION

[Investigation Nos. 701-TA-474 and 731-TA-1176 (Final)]

Drill Pipe and Drill Collars From China

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is threatened with material injury by reason of imports of drill pipe and drill collars from China, provided for in subheadings 7304.22, 7304.23, and 8431.43 of the Harmonized Tariff Schedule of the United States, that the U.S. Department of Commerce has determined are subsidized and sold in the United States at less than fair value (“LTFV”).2 3

¹ The record is defined in sec. 207.2(f) of the Commission's Rules of Practice and Procedure (19 CFR 207.2(f)).

² Chairman Deanna Tanner Okun, Commissioner Daniel R. Pearson, and Commissioner Shara L. Aranoff dissenting.

³ Vice Chairman Irving A. Williamson, Commissioner Charlotte R. Lane, and Commissioner Dean A. Pinkert determine that they would not have found material injury but for the suspension of liquidation.

Background

The Commission instituted these investigations effective December 31, 2009, following receipt of a petition filed with the Commission and Commerce by VAM Drilling USA Inc., Houston, TX; Rotary Drilling Tools, Beasley, TX; Texas Steel Conversions, Inc., Houston, TX; TMK IPSCO, Downers Grove, IL; and the United Steel, Paper and Forestry, Rubber, Manufacturing, Energy, Allied Industrial and Service Workers International Union, AFL-CIO-CLC, Pittsburgh, PA. The final phase of the investigations was scheduled by the Commission following notification of preliminary determinations by Commerce that imports of drill pipe and drill collars from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 9, 2010 (75 FR 54912). The hearing was held in Washington, DC, on January 5, 2011, and all persons who requested the opportunity were permitted to appear in person or by counsel.

The Commission transmitted its determinations in these investigations to the Secretary of Commerce on February 24, 2011. The views of the Commission are contained in USITC Publication 4213 (February 2011), entitled Drill Pipe and Drill Collars from China: Investigation Nos. 701-TA-474 and 731-TA-1176 (Final).

By order of the Commission.
Issued: February 24, 2011.
William R. Bishop,
Hearings and Meetings Coordinator.

[FR Doc. 2011-4713 Filed 3-2-11; 8:45 am]

BILLING CODE P